DEPARTMENT OF HEALTH AND HUMAN SERVICES

Administration for Children and Families

Proposed Information Collection Activity; Comment Request

Proposed Projects:

Title: Electronic Document Exchange (formerly titled, “Child Support Document Exchange System”)

OMB No.: 0970-0435.

Description: The Federal Office of Child Support Enforcement's (OCSE) Federal Parent Locator Service offers the Electronic Document Exchange (EDE), formerly titled “Child Support Document Exchange System” (CSDES), application within the OCSE Child Support Portal. The EDE provides a centralized, secure system for authorized users in state child support agencies to electronically exchange child support and spousal support case information with other state child support agencies. Using the EDE benefits state child support agencies by reducing delays, costs, and barriers associated with interstate case processing; increasing state collections; improving document security; standardizing data sharing; increasing state participation; and improving case processing and overall child and spousal support outcomes.

The activities associated with the EDE are authorized by (1) 42 U.S.C. 652(a)(7), which requires OCSE to provide technical assistance to the states to help them establish effective systems for collecting child support and spousal support; (2) 42 U.S.C. 666(c)(1), which requires state child support agencies to have expedited procedures to obtain and promptly share information with other state child support agencies; and (3) 45 CFR 303.7(a)(5), provides the mechanism for state child support agencies to fulfill the federal requirement to transmit requests for child support case information and provide requested information electronically to the greatest extent possible as required by the regulation.

Respondents: State Child Support Agencies.

Annual Burden Estimates
Information collection instrument | Number of respondents | Number of responses per respondent | Average burden hours per response | Total burden hours
Online Data Entry Screens | 38 | 1,777 | .017 (60 seconds) | 1,147.94

Estimated Total Annual Burden Hours: 1,147.94.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2019-01059 Filed 2-4-19; 8:45 am]

BILLING CODE 4184-01-P